DEPARTMENT OF THE INTERIOR

Bureau of Land Management

[OR-130-1020-ML; GP7-0092]

Notice of Public Meeting, Eastern Washington Resource Advisory Council Meeting

AGENCY: Bureau of Land Management, Interior.

ACTION: Notice of public meeting.

SUMMARY: In accordance with the Federal Land Policy and Management Act of 1976 and the Federal Advisory Committee Act of 1972, the U.S. Department of the Interior, Bureau of Land Management Eastern Washington Resource Advisory Council will meet as indicated below.

DATES: The Eastern Washington Resource Advisory Council will meet Friday, April 13, 2007 at the Spokane District Office, Bureau of Land Management, 1103 North Fancher Road, Spokane Valley, Washington 99212-1275.

SUPPLEMENTARY INFORMATION: The meeting will start at 9 a.m., adjourn at 4 p.m., and will be open to the public. Topics of discussion will include: (1) Spokane District's land use plan and potential revision; (2) an update on management of access to the Juniper Dunes area; (3) Spokane District priorities and budget; and (4) prioritization of topics for future meetings. There will be an opportunity for public comment at 3 p.m.

FOR FURTHER INFORMATION CONTACT: Scott Pavey or Sandie Gourdin, Bureau of Land Management, Spokane District Office, 1103 N. Fancher Road, Spokane Valley, Washington 99212-1275, or call (509) 536-1200.

Dated: March 20, 2007.
Robert B. Towne,
District Manager.

[FR Doc. E7-5466 Filed 3-23-07; 8:45 am]

BILLING CODE 4310-33-P